DEPARTMENT OF COMMERCE

National Oceanic and Atmospheric Administration

[I.D. 040204C]

Endangered Species; File No. 1227

AGENCY: National Marine Fisheries Service (NMFS), National Oceanic and Atmospheric Administration (NOAA), Commerce.

ACTION: Receipt of application for modification

SUMMARY: Notice is hereby given that the NMFS Southwest Fisheries Science Center, 8604 La Jolla Shores Drive, La Jolla, CA 92037, has requested a modification to scientific research Permit No. 1227.

DATES: Written, telefaxed, or e-mail comments must be received on or before May 10, 2004.

ADDRESSES: The modification request and related documents are available for review upon written request or by appointment in the following offices:

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1227.

FOR FURTHER INFORMATION CONTACT: Patrick Opay, (301)713-1410 or Patricia Lawson, (301)713-2289.

SUPPLEMENTARY INFORMATION: The subject modification to Permit No. 1227, issued on May 1, 2000 (65 FR 25312) is requested under the authority of the Endangered Species Act of 1973, as amended (16 U.S.C. 1531 et seq.) and the regulations governing the taking, importing, and exporting of endangered and threatened species (50 CFR 222-226).

Permit No. 1227 authorizes the permit holder to capture leatherbacks (Dermochelys coriacea) from the wild or rescue them from ghost fishing gear. It authorizes the researchers to tissue sample, fat sample, flipper and PIT (passive integrated transponder) tag up to 100 of this species over the life of the 5 year permit. Twenty of these 100 may also be satellite tagged. The permit holder requests authorization to attach satellite transmitters using the harness backpack method allowed in the current permit on up to an additional 40 of the remaining leatherbacks that they are already permitted to take in the eastern Pacific Ocean nearshore to California and Oregon through December of 2005. The information from this research is part of studies on the migration and habitat use of these species in the Pacific Ocean. The permit holder also requests authorization to conduct short-term tracking of 20 additional leatherbacks in the Monterey Bay area without having to capture them, using VHF/TDR (time depth recorder)/sonic tag units attached with suction cups. The VHF/TDR/sonic tag units will be used to study the short-term movements, dive behavior and foraging ecology of this species. They will provide fine-scale movements and diving behavior of leatherbacks in the vicinity of Monterey Bay and give important information regarding the foraging ecology of this species off the coast of California.

Dated: April 2, 2004.
Patrick Opay,
Acting Chief, Permits, Conservation and Education Division, Office of Protected Resources, National Marine Fisheries Service.

[FR Doc. 04-7983 Filed 4-7-04; 8:45 am]

BILLING CODE 3510-22-S